DEPARTMENT OF TRANSPORTATION

Federal Aviation Administration

Sixteenth Meeting of the RTCA Tactical Operations Committee

AGENCY: Federal Aviation Administration (FAA), U.S. Department of Transportation (DOT).

ACTION: Sixteenth Meeting of the RTCA Tactical Operations Committee.

SUMMARY: The FAA is issuing this notice to advise the public of the Sixteenth Meeting of the RTCA Tactical Operations Committee.

DATES: The meeting will be held December 13, 2016, 01:00 p.m.-03:00 p.m.

ADDRESSES: The meeting will be held at: RTCA Headquarters, 1150 18th Street NW., Suite 910, Washington, DC 20036.

FOR FURTHER INFORMATION CONTACT: Trin Mitra at tmitra@rtca.org or 202-330-0655, the RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for the Fifteenth Meeting of the RTCA Tactical Operations Committee. The agenda will include the following:

Tuesday, December 13, 2016—1:00 p.m.-3:00 p.m.

1. Opening of Meeting/Introduction of TOC Members—Co-Chairs Dale Wright and Bryan Quigley

2. Official Statement of Designated Federal Official—Elizabeth Ray

3. Approval of October 27, 2016 Meeting Summary

4. Graphical TFR Task Group—Recommendation

5. GPS Adjacent Band Compatibility Task Group—Ligado Proposal Review Recommendation

6. Updates on Future TOC Tasks

7. Other Business

8. Adjourn

Attendance is open to the interested public but limited to space availability. Given limited space on-site, members of the public that wish to participate virtually can request dial-in and online meeting information by contacting Trin Mitra, TOC Secretary, at tmitra@rtca.org. With the approval of the chairman, members of the public may present oral statements at the meeting. Persons wishing to present statements or obtain information should contact the person listed in the FOR FURTHER INFORMATION CONTACT section. Members of the public may present a written statement to the committee at any time.

Issued in Washington, DC, on November 15, 2016.
Mohannad Dawoud,
Management & Program Analyst, Partnership Contracts Branch, ANG-A17 NextGen, Procurement Services Division, Federal Aviation Administration.

[FR Doc. 2016-27793 Filed 11-17-16; 8:45 am]

BILLING CODE 4910-13-P